DEPARTMENT OF AGRICULTURE

Food and Nutrition Service

Agency Information Collection Activities: Proposed Collection; Comment Request—Federal Claims Collection Methods for Food Stamp Program Recipient Claims

AGENCY: Food and Nutrition Service, USDA.

ACTION: Notice.

SUMMARY: In accordance with the Paperwork Reduction Act of 1995, this Notice invites the general public and other public agencies to comment on proposed information collections. This Notice of Proposed Information Collection announces the intent of the Food and Nutrition Service to revise and extend the information collection requirements associated with initiating and conducting Federal collection actions against households with delinquent food stamp recipient debts.

DATES: Written comments must be submitted on or before June 20, 2003 to be assured consideration.

ADDRESSES: Send comments to Barbara Hallman, Chief, State Administration Branch, Food and Nutrition Service, USDA, 3101 Park Center Drive, Room 820, Alexandria, Virginia, 22302.

Pursuant to the Paperwork Reduction Act of 1995 (44 U.S.C. 3507), comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate, automated, electronic, mechanical, or other technological collection techniques or other forms of information technology.

All comments will be summarized and included in the request for Office of Management and Budget approval of the information collection. All comments will become a matter of public record.

FOR FURTHER INFORMATION CONTACT: Contact Leslie Byrd at (703) 305-2383 for further information.

SUPPLEMENTARY INFORMATION: Title: Federal Claims Collection Methods for Food Stamp Program Recipient Claims.

OMB Number: 0584-0446.

Form Number: None.

Expiration Date: April 30, 2003.

Type of Request: Revision of a currently approved collection.

Abstract: Section 13(b) of the Food Stamp Act of 1977, as amended (7 U.S.C. 2022(b)), and Food Stamp Program (FSP) regulations at 7 CFR 273.18 require State agencies to refer debtors with food stamp recipient debts that have been delinquent for 180 days or more to the Treasury Offset Program (TOP). This program intercepts Federal income tax refunds, Federal salaries and other Federal payments earmarked for these delinquent debtors. Also, the referral of delinquent debtors to TOP is required by the Debt Collection Improvement Act of 1996.

TOP places a burden on States agencies and/or the general public in three areas: 60-day notices; State-level submissions; and automated data processing (ADP).

TOP 60-Day Notice Proposed Burden

The proposed burden associated with the 60-day notice involves both the debtors and the general public. The 60-day notice notifies the debtor of the referral to TOP and provides the right for appeal. The State agency needs to prepare and mail the notices as well as respond to inquiries and appeals. The debtor, in turn, receives and reads the notice and then may make an inquiry or appeal the impending action if the debtor believes that the impending action is incorrect. Based on calendar year 2002 totals, we estimate that State agencies will send out and that debtors will read 276,366 notices. In addition, we estimate that the debtors will submit and State agencies will respond to about 2,700 inquiries and appeals. The total number of responses being proposed for the 60-day notice portion of the proposed burden is 279,066 respondents (276,366 notices + 2,700 follow-up inquiries and appeals) per year resulting in an annual reporting and recordkeeping burden of 39,549 hours. The existing burden for activity relating to the 60-day notice is 58,177 hours based on 369,045 respondents. The net reduction of 18,628 hours (58,177 hours − 39,549 hours) is due to the fact that State agencies are no longer required to send a 60-day notice to every delinquent debtor every year.

TOP State-level Submissions

The TOP offsets themselves are conducted by Treasury with FNS acting as an intermediary between the State agency and Treasury. While conducting this Operation State agencies must submit specified documents and/or information to FNS. The first such document is an annual letter to FNS certifying that all of the debts submitted by the State agency to TOP are legally enforceable and collectible. The second document certifies that Internal Revenue Service (IRS) information is safeguarded in accordance with IRS instructions. Lastly, State agencies report TOP collections on the FNS-209 Status of Claims Against Households report. (The burden for the remainder of the FNS-209 report is already covered under OMB burden number 0584-0069.)

FNS estimates that it will take State agencies a total of 135 hours per year for these State submissions. This is 1,381 hours less than the corresponding existing reporting and recordkeeping burden of 1515 hours. The reason for the decrease is the elimination of several reporting requirements and submissions including the pre-certification estimate, voluntary payment report and the State-level activity relating to Federal salary offset. These submission requirements have been eliminated, as they are no longer necessary for TOP.

TOP ADP Proposed Burden

The proposed burden for ADP includes weekly file processing, monthly address requests and system maintenance. Weekly file processing includes adding and maintaining debts in TOP, correcting errors on unprocessable records, and posting weekly collection files. Much of this activity is completed using automation and involves nearly 400,000 annual responses. FNS estimates that this activity takes 9,710 annual reporting and recordkeeping burden hours.

State agencies use an automated process to request and receive up-to-date addresses for the purpose of sending out 60-day notices. FNS is estimating that this activity will take about 5,457 reporting and recordkeeping burden hours per year. The last ADP activity associated with this burden is system maintenance. FNS estimates that this activity will take 1,272 burden hours per year.

The total proposed annual reporting and recordkeeping burden for ADP activity is 16,439 hours. This is an increase of 4,329 hours over the previously approved burden associated with ADP activity. The primary reason for the increase is the additional work associated with the monthly address requests. FNS believes that this activity is necessary to assure that 60-day notices are being sent to the correct addresses.

Summary of Estimated Burden

The net aggregate change from the existing to the proposed annual burden for this entire Proposed Collection is a decrease of 15,680 hours. For the activity relating to the 60-day notice, we are reducing the estimated annual burden for State agencies and households from 58,177 hours to 39,549 hours to reflect the fact that there is no longer a need to send a notice to every household every year. The State-level submissions portion of the reporting and recordkeeping burden is being reduced from 1,515 to 135 hours as several reports and submissions have been eliminated. The annual ADP portion of this burden package is being increased from 12,110 to 16,439 hours primarily to reflect the processing associated with monthly address requests.

Affected Public: State and local government, and food stamp households.

Estimated Number of Respondents: 279,119.

Number of Responses per Respondent: from 1 to 52.

Total Number of Annual Responses: 996,682.

Estimated Time per Response: from 1 minute to 8 hours.

Estimated Total Annual Burden: 56,123 hours.

Dated: April 14, 2003.
Roberto Salazar,
Administrator, Food and Nutrition Service.

[FR Doc. 03-9717 Filed 4-18-03; 8:45 am]

BILLING CODE 3410-30-P